DEPARTMENT OF THE INTERIOR

Bureau of Land Management

[LLAK990000 L13100000.XG0000; LLAK990000 L51060000.XG0000.LVAPFL070000]

Notice of Relocation/Change of Address for the Bureau of Land Management, Office of Pipeline Monitoring, Alaska State Office

AGENCY: Bureau of Land Management, Interior.

ACTION: Notice.

SUMMARY: The Bureau of Land Management (BLM), Office of Pipeline Monitoring, located at 411 West 4th Avenue, Suite 2, Anchorage, Alaska, is relocating to 188 West Northern Lights Boulevard, Suite 500, Anchorage, Alaska.

DATES: Effective Date: June 28, 2010.

SUPPLEMENTARY INFORMATION: The BLM Office of Pipeline Monitoring office at 411 West 4th Avenue, Suite 2, Anchorage, Alaska, will remain open during the move that will take place June 28 through June 30, 2010. The mailing address will change to 188 West Northern Lights Boulevard, Suite 500, Anchorage, Alaska 99503-3984. The main office telephone number will change to (907) 271-1309.

FOR FURTHER INFORMATION CONTACT: Marietta Houston, Supervisory Program Specialist, at (907) 271-1309, Bureau of Land Management, Office of Pipeline Monitoring, 188 West Northern Lights Boulevard, Suite 500, Anchorage, Alaska 99503-3984.

Joseph W. Correa,
Acting Authorized Officer.

[FR Doc. 2010-15621 Filed 6-25-10; 8:45 am]

BILLING CODE 4310-JA-P